DEPARTMENT OF AGRICULTURE

Rural Business-Cooperative Service

[Docket No. RBS-22-BUSINESS-0005]

Notice of Request for Comments on a New Information Collection

AGENCY: Rural Business-Cooperative Service, USDA.

ACTION: Notice; comment requested.

SUMMARY: In accordance with the Paperwork Reduction Act of 1995, this notice announces the intention of the above-named agency to request Office of Management and Budget's (OMB) approval for a new information collection in support of the Rural Business-Cooperative Service's Meat and Poultry Intermediary Lending Program (MPILP).

DATES: Comments on this notice must be received by August 8, 2022.

FOR FURTHER INFORMATION CONTACT: Susan Woolard, Management Analyst, Rural Development Innovation Center—Regulations Management Division, USDA, 1400 Independence Avenue SW, South Building, Washington, DC 20250-1522. Telephone: (202) 720-9631. Email susan.woolard@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies a new information collection that the Agency is submitting to OMB for approval. A Notice of Funding Opportunity was posted on May 27, 2022 on Grants.gov under Opportunity Number RD-RBS-22-01-MPILP.

Comments

Comments are invited on: (a) Whether this collection of information is necessary for the proper performance of the functions of the Agency, including whether the information will have practical utility; (b) The accuracy of the Agency's estimate of the burden of the collection of information including the validity of the methodology and assumptions used; (c) Ways to enhance the quality, utility, and clarity of the information to be collected; and (d) Ways to minimize the burden of the collection of information on those who respond, including through the use of appropriate automated, electronic, mechanical or other technological collection techniques, or other forms of information technology.

Comments may be sent by the Federal eRulemaking Portal: Go to http://www.regulations.gov and, in the lower “Search Regulations and Federal Actions” box, select “RBS” from the agency drop-down menu, then click on “Submit.” In the Docket ID column, select [RBS-22-BUSINESS-0005] to submit or view public comments and to view supporting and related materials available electronically. Information on using Regulations.gov, including instructions for accessing documents, submitting comments, and viewing the docket after the close of the comment period, is available through the site's “User Tips” link.

Title: Meat and Poultry Intermediary Lending Program.

OMB Control Number: 0570-NEW.

Type of Request: New collection.

Abstract: The notice contains general provisions for the Meat and Poultry Intermediary Lending Program grants and applies to intermediaries, and other parties involved in making, servicing, or liquidating such grants. The notice also contains general provisions for ultimate recipients of loans made by intermediaries. The information is used by Agency loan officers for program monitoring.

The estimates do not include burden hours for customary and usual business practices of entities other than the Agency. Therefore, this package only considers the information the Agency requires in excess of what a lender would typically require of a business, as well as the information the Agency regulation requires from the lender in excess of what it would typically do for a non-guaranteed loan.

Estimate of Burden: Public reporting burden for this collection of information is estimated to average 3.32 hours per response.

Respondents: Businesses, not-for-profit institutions and others.

Estimated Number of Respondents: 75.

Total Annual Responses: 1,320.

Estimated Number of Responses per Respondent: 17.6.

Estimated Total Annual Burden on Respondents: 4,388 hours.

Copies of this information collection can be obtained from Susan Woolard, Management Analyst, Innovation Center—Regulations Management Division, at (202) 720-9631. Email: susan.woolard@usda.gov.

All responses to this notice will be summarized and included in the request for OMB approval. All comments will also become a matter of public record.

Karama Neal,
Administrator, Rural Business-Cooperative Service.

[FR Doc. 2022-12307 Filed 6-7-22; 8:45 am]

BILLING CODE 3410-XY-P